DEPARTMENT OF TRANSPORTATION

Federal Aviation Administration

14 CFR Part 39

[Docket No. FAA-2007-28883; Directorate Identifier 2007-NM-106-AD; Amendment 39-15267; AD 2007-24-01]

RIN 2120-AA64

Airworthiness Directives; Hawker Beechcraft Model 400A Series Airplanes

AGENCY: Federal Aviation Administration (FAA), Department of Transportation (DOT).

ACTION: Final rule.

SUMMARY: The FAA is adopting a new airworthiness directive (AD) for certain Hawker Beechcraft Model 400A series airplanes. This AD requires inspecting the galley cabinets to determine if a certain part number is installed or if a certain size of wire already exists, and doing related investigative/corrective actions if necessary. This AD results from reports of undersized, and consequently unprotected, wire in the galley cabinets. We are issuing this AD to prevent overheating of wire insulation and consequent fire or smoke in the airplane cabin.

DATES: This AD becomes effective January 2, 2008.

The Director of the Federal Register approved the incorporation by reference of a certain publication listed in the AD as of January 2, 2008.

ADDRESSES: For service information identified in this AD, contact Hawker Beechcraft Corporation, 9709 East Central, Wichita, Kansas 67206.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Philip Petty, Aerospace Engineer, Electrical Systems and Avionics, ACE-119W, FAA, Wichita Aircraft Certification Office, 1801 Airport Road, Room 100, Mid-Continent Airport, Wichita, Kansas 67209; telephone (316) 946-4139; fax (316) 946-4107.

SUPPLEMENTARY INFORMATION:

Discussion

The FAA issued a notice of proposed rulemaking (NPRM) to amend 14 CFR part 39 to include an AD that would apply to certain Hawker Beechcraft Model 400A series airplanes. That NPRM was published in the Federal Register on August 9, 2007 (72 FR 44813). That NPRM proposed to require inspecting the galley cabinets to determine if a certain part number is installed or if a certain size of wire already exists, and doing related investigative/corrective actions if necessary.

Comments

We provided the public the opportunity to participate in the development of this AD. We received no comments on the NPRM or on the determination of the cost to the public.

Change to Language in Final Rule

We have removed the words “if necessary” that were inadvertently added to paragraph (f) of the NPRM. The actions in paragraph (f) of this AD are required.

Conclusion

We have carefully reviewed the available data and determined that air safety and the public interest require adopting the AD with the change described previously. We have determined that this change will neither increase the economic burden on any operator nor increase the scope of the AD.

Costs of Compliance

There are about 285 airplanes of the affected design in the worldwide fleet. This AD affects about 214 airplanes of U.S. registry. The required inspection takes about 1 work hour per airplane, at an average labor rate of $80 per work hour. Based on these figures, the estimated cost of this AD for U.S. operators is $17,120, or $80 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-24-01 Hawker Beechcraft Corporation: Amendment 39-15267. Docket No. FAA-2007-28883; Directorate Identifier 2007-NM-106-AD.

Effective Date

(a) This AD becomes effective January 2, 2008.

Affected ADs

(b) None.

Applicability

(c) This AD applies to Hawker Beechcraft Model 400A series airplanes, certificated in any category; as identified in Raytheon Service Bulletin SB 25-3758, dated June 2006.

Unsafe Condition

(d) This AD results from reports of undersized, and consequently unprotected, wire in the galley cabinets. We are issuing this AD to prevent overheating of wire insulation and consequent fire or smoke in the airplane cabin.

Compliance

(e) You are responsible for having the actions required by this AD performed within the compliance times specified, unless the actions have already been done.

Inspection and Related Investigative/Corrective Actions

(f) Within 200 flight hours or 12 months after the effective date of this AD, whichever occurs first, inspect the galley cabinets to determine if Precision Pattern galley cabinet, part number (P/N) 20917, 20918, or 20921 is installed, or if 8 American Wire Gauge (AWG) wire already exists; and, within 20 flight hours or 30 days after the inspection, whichever occurs later, do all applicable related investigative and corrective actions. The actions must be done in accordance with the Accomplishment Instructions of Raytheon Service Bulletin SB 25-3758, dated June 2006.

Note 1: Raytheon Service Bulletin SB 25-3758, dated June 2006, refers to Raytheon Kit 128-3068-0001, Revision 3, dated April 18, 2006, as an additional source of service information for replacing the undersized 10AWG wire with 8AWG wire in the gallery power circuit.

Alternative Methods of Compliance (AMOCs)

(g)(1) The Manager, Wichita Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(h) You must use Raytheon Service Bulletin SB 25-3758, dated June 2006, to perform the actions that are required by this AD, unless the AD specifies otherwise. The Director of the Federal Register approved the incorporation by reference of this document in accordance with 5 U.S.C. 552(a) and 1 CFR part 51. Contact Hawker Beechcraft Corporation, 9709 East Central, Wichita, Kansas 67206, for a copy of this service information. You may review copies at the FAA, Transport Airplane Directorate, 1601 Lind Avenue SW., Renton, Washington; or at the National Archives and Records Administration (NARA). For information on the availability of this material at NARA, call 202-741-6030, or go to: http://www.archives.gov/federal-register/cfr/ibr-locations.html.

Issued in Renton, Washington, on November 8, 2007.
Ali Bahrami,
Manager, Transport Airplane Directorate, Aircraft Certification Service.

[FR Doc. E7-22545 Filed 11-27-07; 8:45 am]

BILLING CODE 4910-13-P